DEPARTMENT OF ENERGY

10 CFR Part 430

[EERE-2014-BT-STD-0059]

RIN 1904-AD97

Energy Conservation Program: Energy Conservation Standards for Room Air Conditioners

AGENCY: Office of Energy Efficiency and Renewable Energy, Department of Energy.

ACTION: Reopening of public comment period.

SUMMARY: The U.S. Department of Energy (“DOE”) is reopening the public comment period for the preliminary analysis it has conducted for purposes of evaluating energy conservation standards for room air conditioners (ACs). DOE published the notice of webinar and availability of preliminary technical support document in the Federal Register on June 17, 2020, establishing a 60-day public comment period ending August 17, 2020. On August 3, 2020, DOE received a comment requesting extension of the comment period by 14 days. DOE is reopening the public comment period for submitting comments and data on the notice of webinar and availability of preliminary technical support document by 14 days, to September 8, 2020.

DATES: The comment period for the notice of webinar and availability of preliminary technical support document published on June 17, 2020 (85 FR 36512), is reopened. DOE will accept comments, data, and information regarding the notice of webinar and availability of preliminary technical support document received no later than September 8, 2020.

ADDRESSES: Interested persons are encouraged to submit comments using the Federal eRulemaking Portal at http://www.regulations.gov. Follow the instructions for submitting comments. Alternatively, interested persons may submit comments, identified by docket number EERE-2014-BT-STD-0059, by any of the following methods:

1. Federal eRulemaking Portal: http://www.regulations.gov. Follow the instructions for submitting comments.

2. Email: RoomAC2014STD0059@ee.doe.gov. Include the docket number EERE-2014-BT-STD-0059 in the subject line of the message.

3. Postal Mail: Appliance and Equipment Standards Program, U.S. Department of Energy, Building Technologies Office, Mailstop EE-5B, 1000 Independence Avenue SW, Washington, DC 20585-0121. Telephone: (202) 287-1445. If possible, please submit all items on a compact disc (CD), in which case it is not necessary to include printed copies.

4. Hand Delivery/Courier: Appliance and Equipment Standards Program, U.S. Department of Energy, Building Technologies Office, 950 L'Enfant Plaza SW, 6th Floor, Washington, DC 20024. Telephone: (202) 287-1445. If possible, please submit all items on a CD, in which case it is not necessary to include printed copies.

No telefacsimilies (faxes) will be accepted.

Docket: The docket for this activity, which includes Federal Register notices, comments, and other supporting documents/materials, is available for review at http://www.regulations.gov. All documents in the docket are listed in the http://www.regulations.gov index. However, some documents listed in the index, such as those containing information that is exempt from public disclosure, may not be publicly available.

The docket web page can be found at https://www.regulations.gov/docket?D=EERE-2014-BT-STD-0059. The docket web page contains instructions on how to access all documents, including public comments in the docket. See section IV for information on how to submit comments through http://www.regulations.gov.

FOR FURTHER INFORMATION CONTACT: Mr. Bryan Berringer, U.S. Department of Energy, Office of Energy Efficiency and Renewable Energy, Building Technologies Office, EE-5B, 1000 Independence Avenue SW, Washington, DC 20585-0121. Telephone: (202) 586-0371. Email: ApplianceStandardsQuestions@ee.doe.gov. Ms. Amelia Whiting, U.S. Department of Energy, Office of the General Counsel, GC-33, 1000 Independence Avenue SW, Washington, DC 20585-0121. Telephone: (202) 586-2588. Email: Amelia.Whiting@hq.doe.gov. For further information on how to submit a comment or review other public comments and the docket contact the Appliance and Equipment Standards Program staff at (202) 287-1445 or by email: ApplianceStandardsQuestions@ee.doe.gov.

SUPPLEMENTARY INFORMATION: On June 17, 2020, DOE published a notice of webinar and availability of preliminary technical support document in the Federal Register soliciting public comment on its energy conservation standards for room ACs. 85 FR 36512. Comments were originally due on August 17, 2020. On August 3, 2020, DOE received a comment from Appliance Standards Awareness Project (ASAP), the Northwest Energy Efficiency Alliance (NEEA), Pacific Gas and Electric Company (PG&E), San Diego Gas and Electric (SDG&E), and Southern California Edison (SCE) to extend by 14 days the DOE comment period for the notice of webinar and availability of preliminary TSD for Room AC Energy Conservation Standards, reopening the comment submission deadline from August 17, 2020, to September 8, 2020.¹ DOE has reviewed the request and considered the benefit to stakeholders in providing additional time to review the notice of webinar and availability of preliminary technical support document, and gather information/data that DOE is seeking. Accordingly, DOE has determined that an extension of the comment period is appropriate, and is hereby reopening the comment period by 14 days, until September 8, 2020.

¹ DOE has posted this comment to the docket at https://www.regulations.gov/document?D=EERE-2014-BT-STD-0059-0016.

Signing Authority

This document of the Department of Energy was signed on August 7, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 11, 2020.
Treena V. Garrett,
Federal Register Liaison Officer, U.S. Department of Energy.

[FR Doc. 2020-17841 Filed 8-24-20; 8:45 am]

BILLING CODE 6450-01-P